DEPARTMENT OF THE INTERIOR

Bureau of Land Management

[LLOR930000.L16100000.DS0000.LXSS072H0000.19X.HAG 19-0013]

Notice of Availability of the Draft Southeastern Oregon Resource Management Plan Amendment and Draft Environmental Impact Statement for the Malheur Field Office, Vale District, Oregon

AGENCY: Bureau of Land Management, Interior.

ACTION: Notice of Availability.

SUMMARY: In accordance with the National Environmental Policy Act of 1969 (NEPA), as amended, and the Federal Land Policy and Management Act of 1976 (FLPMA), as amended, the Bureau of Land Management (BLM) has prepared a Draft Southeastern Oregon Resource Management Plan (RMP) Amendment and Draft Environmental Impact Statement (EIS) for the Malheur Field Office of the Vale District and, by this notice, is announcing the opening of the comment period.

DATES: To ensure that comments will be considered, the BLM must receive written comments on the Draft Southeastern Oregon RMP Amendment and Draft EIS within 90 days following the date the Environmental Protection Agency publishes its notice of availability of the Draft Southeastern Oregon RMP Amendment and Draft EIS in the Federal Register. The BLM will announce future meetings or hearings and any other public participation activities at least 15 days in advance through public notices, media releases, and/or mailings.

ADDRESSES: You may submit comments related to the Draft Southeastern Oregon RMP Amendment and Draft EIS by any of the following methods:

• Website: https://go.usa.gov/xnsQx.

• Email: BLM_OR_VL_SEORMP@blm.gov.

• Fax: 541-473-6213.

• Mail: SEORMPA, c/o Vale District BLM, 100 Oregon Street, Vale, OR 97918.

The Draft Southeastern Oregon RMP Amendment and Draft EIS and accompanying background documents are available at the website: https://go.usa.gov/xnsQx.

FOR FURTHER INFORMATION CONTACT: Renee Straub, Assistant Field Manager, 541-473-6289; 100 Oregon Street, Vale, OR 97918; BLM_OR_VL_Mail@blm.gov. Contact Ms. Straub to have your name added to our mailing list. Persons who use a telecommunications device for the deaf (TDD) may call the Federal Relay Service (FRS) at 1-800-877-8339 to contact the above individual during normal business hours. FRS is available 24 hours a day, seven days a week, to leave a message or a question with the above individual. You will receive a reply during normal business hours.

SUPPLEMENTARY INFORMATION: The Federal Land Policy and Management Act of 1976, 43 U.S.C. 1701 et seq., is the statutory authority that provides the primary direction to the BLM to develop, maintain, amend, and revise land use plans, which provide for the use of public lands. Further, FLPMA provides that the BLM shall manage the public lands under the principles of multiple use and sustained yield (Sec. 103, 43 U.S.C. 1702; Sec 202, 43 U.S.C. 1712; and Sec. 302, 43 U.S.C. 1732). The southeastern Oregon planning area covers approximately 4.6 million acres of public lands in Malheur, Grant, Harney, and Baker Counties in Oregon. The area is characterized by a basin and range topography, with remote canyons, desert, and mountain systems. The Draft Southeastern Oregon RMP Amendment and Draft EIS includes a range of five alternatives designed to address three main issues raised in a 2010 settlement agreement: Lands with wilderness characteristics, off highway vehicle (OHV) use, and livestock grazing. Resource uses not addressed by the alternatives in this focused amendment will continue as defined under the 2002 Southeastern Oregon RMP, as amended by the 2015 and 2019 Oregon Greater Sage-Grouse Approved RMP Amendments.

The following is an overview of the five alternatives:

• The No Action Alternative represents the continuation of existing management under the 2002 Southeastern Oregon RMP and Record of Decision (ROD) (as amended by the 2015 Oregon Greater Sage-Grouse RMP Amendment) with the inclusion of interim management stipulations outlined in the 2010 settlement agreement. These stipulations require the protection of wilderness characteristics in 76 public land units where the BLM's updated inventory found wilderness characteristics to exist.

• Alternative A is the BLM's preferred alternative and reflects the continuation of existing management under the 2002 Southeastern Oregon RMP and ROD (as amended by the 2015 Oregon Greater Sage-Grouse RMP Amendment) without the restrictions of the 2010 settlement agreement. The 2002 Southeastern Oregon RMP and ROD did not provide specific management for, or protection of, lands with wilderness characteristics. If this alternative were selected, the 2002 Southeastern Oregon RMP and ROD would not prioritize protection of lands with wilderness characteristics outside of existing wilderness study areas. Processing voluntary grazing permit relinquishment and implementation of measures to address standards and guidelines for rangeland health would continue as under current management and policy. Management of all other resources would continue under the 2002 Southeastern Oregon RMP, as amended. Existing allocations at the land use planning level (such as visual resource management classes, OHV categories, and rights-of-way authorizations) across the planning area would not change. Under Alternative A, the BLM would continue to provide for a sustainable yield of forage for livestock grazing while maintaining resource values for long-term multiple use, consistent with management objectives, and would be unchanged from current practices.

Alternatives B, C, and D would establish new management protections for units of public land (outside of existing wilderness study areas) that have been identified as having wilderness characteristics. The specific units identified for protection varies by alternative.

• Alternative B reflects the highest level of protection required by the 2010 settlement agreement. Alternative B prioritizes protection of wilderness characteristics in all 76 units determined to possess wilderness characteristics. The 76 wilderness characteristics units and all wilderness study areas would be managed as closed to OHV use, and existing primitive routes would be closed to motorized travel. In addition, in all other units where off-road vehicle use is currently allowed (referred to as “open”), OHV use would be limited to existing roads and primitive routes. To address the 2010 settlement agreement in this alternative, where existing livestock grazing practices are found to be significant causal factors for non-attainment of standards and guidelines for rangeland health, the BLM would suspend grazing permits, either at the allotment- or pasture-scale, for the duration of the RMP in units identified in the 2010 settlement agreement. Should the BLM receive a voluntary permit relinquishment in a wilderness study area, designated national wild and scenic river corridor, designated national historic trail, area of critical environmental concern, research natural area, a unit found to possess wilderness characteristics, or designated critical habitat, the BLM would designate the units as unavailable to grazing (or reduced grazing use where common use by multiple permittees occurs) for the life of the Draft Southeastern Oregon RMP Amendment and Draft EIS.

• Alternative C prioritizes protection of 27 of the 76 units found to have wilderness characteristics. Use of OHVs in these 27 units would be limited to existing roads and primitive routes, unless currently designated as limited to designated routes or closed to OHV use. This alternative would continue existing OHV open management in eight specific units located in the north half of the planning area. For all other units currently managed as open to OHV use, Alternative C would change management to limited to existing roads and primitive routes for motorized vehicle use. The BLM would continue to follow existing policy when livestock grazing practices are found to be significant causal factors for non-attainment of standards and guidelines for rangeland health. The BLM would also continue to follow existing policy when a voluntary grazing permit relinquishment is received.

• Alternative D reflects an alternative method for addressing lands with wilderness characteristic units, OHV use, and livestock grazing that is required by the 2010 settlement agreement. This alternative is less protective than Alternative B. Alternative D prioritizes the protection of 33 of the 76 units found to have wilderness characteristics. As required by the 2010 settlement agreement, all 76 units with wilderness characteristics would be managed as OHV limited, unless currently allocated as limited to designated routes or closed to OHV use. Wilderness study areas would continue to be managed under the 2002 Southeastern Oregon RMP, as amended, as limited to designated routes under this alternative. To address the 2010 settlement agreement in Alternative D, where existing livestock grazing practices are found to be a significant causal factor for non-attainment of standards and guidelines for rangeland health, the BLM would suspend term grazing permits, either at the allotment- or pasture-scale, for the duration of the term permit (generally up to 10 years) or until monitoring indicates that significant progress is made toward meeting standards and guidelines in units identified in the 2010 settlement agreement. Should the BLM receive a permit relinquishment in a wilderness study area, designated national wild and scenic river corridor, or designated national historic trail, the BLM would designate the unit as unavailable to grazing (or reduced grazing use where common use by multiple permittees occurs) for the life of the document.

Under Alternatives B, C, and D, units that are identified for the protection of wilderness characteristics would be designated as visual resource management class II, land tenure zone 1 (retention in public ownership), and as exclusion units for major rights-of-way and commercial renewable energy projects. Under Alternatives B, C, and D, a 250-foot setback unit would be established to provide the BLM with management flexibility to adapt to resources needs, threats, and opportunities along boundary roads, while maintaining or enhancing the values within the protected units.

Alternative A has been identified as the preferred alternative per 40 CFR 1502.14(e). However, identification of a preferred alternative does not represent the final agency decision. For this reason, the BLM encourages comments on all alternatives and management actions described in the Draft Southeastern Oregon RMP Amendment and Draft EIS.

Following the 90-day comment period, the BLM will develop a Proposed Southeastern Oregon RMP Amendment and Final EIS which will reflect changes or adjustments based on public comments.

You may submit comments on the Draft Southeastern Oregon RMP Amendment and Draft EIS in writing to the BLM at any public meeting or through any of the methods identified in the ADDRESSES section above. All comments must be received by the end of the comment period. Comments submitted must include the commenter's name and street address. Whenever possible, please include reference to either the page or section in the document to which the comment applies.

This notice begins the 90-day comment period for the Draft Southeastern Oregon RMP Amendment and Draft EIS. Please note that public comments and information submitted, including names, street addresses, and email addresses of persons who submit comments, will be available for public review and disclosure at the above address during regular business hours (8 a.m. to 4 p.m.), Monday through Friday, except holidays.

Before including your address, phone number, email address, or other personally identifiable information in your comment, you should be aware that your entire comment—including your personally identifiable information—may be made publicly available at any time. While you can ask the BLM in your comment to withhold your personally identifiable information from public review, we cannot guarantee that we will be able to do so. All submissions from organizations or businesses, and from individuals identifying themselves as representatives or officials of organizations or businesses, are available for public inspection in their entirety.

Authority: 40 CFR 1506.6, 40 CFR 1506.10, and 43 CFR 1610.2.

Theresa M. Hanley,
Acting State Director, Oregon/Washington.

[FR Doc. 2019-11290 Filed 5-30-19; 8:45 am]

BILLING CODE 4310-33-P